DEPARTMENT OF THE INTERIOR

Office of the Secretary

Request for Comments on Revised Departmental Strategic Plan for FY 2003-2008

AGENCY: Office of the Secretary, Interior.

ACTION: Request for comments on a revised Departmental Strategic Plan for FY 2003-2008.

SUMMARY: The Department of the Interior (DOI) is seeking public comment on its draft strategic plan for fiscal years 2003-2008.

DATES: Comments should be provided no later than April 25, 2003.

ADDRESSES: Written comments can be provided by: E-mail: strategic_plan@ios.doi.gov.

Fax: (202) 208-2619.

Mail: U.S. Department of the Interior, Office of the Secretary, Office of Planning and Performance Management, Attention: Strategic Plan Coordinator, 1849 C Street NW., Mail Stop 5258, Washington, DC 20240.

FOR FURTHER INFORMATION CONTACT: LeRon Bielak (202) 208-1818.

SUPPLEMENTARY INFORMATION: The Government Performance and Results Act of 1993 (GPRA) requires periodic updating of agency strategic plans. The first DOI GPRA strategic plan was published in 1997. A subsequent revision was produced in 2000. The next revision must be published no later than September 30, 2003.

DOI began its revision process in the fall of 2001 to position the strategic process and development of goals and measures ahead of the FY 2004 budget formulation cycle. Instead of requesting public comment for the first time after a new draft plan had been created, DOI chose to begin the process with internal and external focus group sessions in a “clean slate” approach. These sessions were held in Washington, D.C.; Denver, Colorado; and Albuquerque, New Mexico between December 2001 and February 2002. We integrated the information to produce the first plan drafts. Subsequently the plan has been subjected to additional critical review and evaluation through all levels of the Department. At this point, DOI wants to return our product to our external stakeholders and customers for review.

DOI has taken a major departure from its past approaches to strategic planning. Previously, Interior produced a set of ten GPRA strategic plans—an overview document and nine bureau or office plans. While the overview attempted to draw attention to areas of commonality among bureaus, Interior was still perceived as a “holding company” and concern lingered about the effectiveness of an agency functioning in a holding company fashion.

The DOI draft strategic plan will stand as the GPRA document for the entire agency. Commonality of mission function and desired results is given much greater weight than in previous plans. The Department has subscribed to the “logic model” approach of strategic planning in which results (end outcomes) are clearly identified and represent the first step in the plan development process. Measures are applied to end outcomes to provide a means of gauging success in achieving the desired results. Results are measured both long term and on an annualized basis. Supporting strategic (or intermediate outcomes) have also been established and are accompanied by specific performance measures. Bureau operating plans must be tied to both the intermediate and end outcome levels of the Departmental Plan.

This overall approach is aimed at greater integration of purpose and function across the Department and at achieving superior performance results. The Departmental strategic plan cannot include goals and measures for every discrete aspect of every program, but outcomes are written to encompass all of the programs identified in the Department's budget accounts. Greater specificity for discrete elements will be found in bureau level annual or long-term operating plans or in specific field planning documents, as appropriate.

Interior looks forward to your comments regarding our planning approach and draft strategic plan. We are asking that comments be submitted within 60 days of publication of this notice. The text of the draft plan is available in a “pdf” downloadable format through the DOI Internet Web site: http://www.doi.gov/about.html. For those who may not have internet access, a hard copy can be requested from the contact points listed in the ADDRESSES section.

Dated: February 14, 2003.
P. Lynn Scarlett,
Assistant Secretary—Policy, Management and Budget.

[FR Doc. 03-4225 Filed 2-21-03; 8:45 am]

BILLING CODE 4310-RK-M